DEPARTMENT OF AGRICULTURE

Forest Service

Washington Office; Fire and Aviation Management; Nationwide Aerial Application of Fire Retardant on National Forest System Land SEIS

AGENCY: Forest Service, Agriculture (USDA).

ACTION: Notice of intent to prepare a supplemental environmental impact statement.

SUMMARY: The USDA Forest Service is preparing a programmatic Supplemental Environmental Impact Statement (SEIS) for the Nationwide Aerial Application of Fire Retardant on National Forest System Land. The direction in the SEIS will apply to use of aerially delivered fire retardant on all National Forest System land. The responsible official for this action is the Deputy Chief of the National Forest System.

DATES: The draft Supplemental EIS is expected September 2020 and the final EIS is expected September 2021.

FOR FURTHER INFORMATION CONTACT: Laura Conway (Natural Resource Specialist) by email at laura.conway@usda.gov or by phone at 406-329-3956, between 8:00 a.m. and 4:30 p.m., Mountain Time, Monday through Friday. Individuals who use telecommunication devices for the deaf (TDD) may call the Federal Information Relay Service (FIRS) at 1-800-877-8339 between 8 a.m. and 8 p.m., Eastern Time, Monday through Friday.

SUPPLEMENTARY INFORMATION:

Purpose and Need for Action

The overall purpose in the Aerial Application of Fire Retardant on National Forest System Land Environmental Impact Statement has not changed. Adopting the proposed action would give the Forest Service the ability to reduce future wildfire intensities and rates of spread under certain circumstances until ground forces can safely take suppression action over the duration of an incident. High fire intensities and rates of spread greatly reduce the ability of ground-based firefighters to safely fight wildland fires. In addition, the remote locations and rugged topography associated with many wildland fires can delay the deployment of ground forces for suppression. In some situations, firefighters need the ability to quickly reduce rates of spread and intensities of wildland fires, often in remote locations, until ground forces can safely take suppression action or until a wildfire is contained or controlled. The purpose of Supplementing the Environmental Impact Statement is to address new information and changed conditions since the signed decision in 2011.

Proposed Action

This proposal would allow aerially applied fire retardants, included now or in the future on the Forest Service Qualified Products List, to be used on National Forest System lands. The current Qualified Products List can be found at the following website: https://www.fs.fed.us/rm/fire/wfcs/index.htm. The proposal would protect resources and continue to improve the documentation of retardant effects through reporting, monitoring, and application coordination. Aerial retardant drops are not allowed in mapped avoidance areas for Endangered Species Act Threatened, Endangered, Proposed, or Candidate species; mapped avoidance areas for certain Regional Forester Sensitive Species; or in waterways or their buffers, mapped or not, where water is present; or avoidance areas mapped by the local unit. This national direction is mandatory and would be implemented in all cases except where human life or public safety are threatened and retardant use in the avoidance area could be reasonably expected to alleviate the fire threat. When an application occurs inside avoidance areas for any reason, hereafter referred to as an intrusion, it would be reported, assessed for impacts, monitored, and remediated as necessary. Also included is direction to better protect important heritage, cultural, and tribal resources and sacred sites based on site specific recommendations.

This alternative includes the following components: Aircraft Operational Guidance; Avoidance Area Mapping Requirements; Annual Coordination and Reporting and Monitoring Requirements; and Procedures for environmental clearance when there are additions to the Qualified Products List.

Aircraft Operational Guidance

Operational guidance helps ensure that retardant drops are not made within waterways or mapped avoidance areas.

Whenever practical, as determined by the agency administrator and incident commander, the Forest Service will use water, other suppressants, or less toxic qualified fire retardants in areas occupied by Endangered Species Act Threatened, Endangered, Candidate or Proposed species or their designated critical habitats, or habitats for Regional Forester Sensitive Species. Some of these species and habitats require that only water be used to protect their habitat and populations; these habitats and populations have been mapped as avoidance areas. Incident commanders and pilots are required to avoid aerial application of fire retardant in mapped avoidance areas for designated species and habitat, or within the prescribed buffers on either side of waterways with water present.

These guidelines shall not require pilots to fly in a manner that endangers their aircraft or other aircraft or structures, or that compromises the safety of ground personnel or the public.

• Operational guidance to ensure retardant drops are not made within prescribed buffers on either side of waterways or within mapped avoidance areas for species:

Medium/Heavy Airtankers, Single Engine Airtankers, and Helicopters: When approaching mapped avoidance areas, waterways, or riparian vegetation visible to the pilot, the pilot will terminate the application of retardant approximately 300 feet before reaching the mapped avoidance area or waterway. When flying over a mapped avoidance area waterway, or riparian vegetation, the pilot will wait one second after crossing the far border of an avoidance area or bank of a waterway before applying retardant. Pilots will make adjustments for airspeed and ambient conditions such as wind to avoid the application of retardant within the prescribed buffer zone or mapped avoidance areas.

• Protection of cultural resources, including historic properties, traditional cultural resources, and sacred sites:

These resources cannot be mapped using a national protocol or addressed with a standard prescription that would apply to all instances. Therefore, they will be given case-by-case consideration when ordering the aerial application of fire retardant. As necessary, incident commanders would consider the effects of aerial applications on known or suspected historic properties, any identified traditional cultural resources, and sacred sites. Cultural resources specialists, archaeologists, and tribal liaisons would assist in the consideration of effects and alternatives for protection.

Avoidance Areas Mapping Requirements

Identified avoidance areas are:

• Aquatic Avoidance Areas:

○ Waterways and their buffers (including but not limited to perennial streams, intermittent streams, lakes, ponds, identified springs, reservoirs, vernal pools, and riparian vegetation) where water is present at the time of retardant application.

○ Aquatic buffer zones shall be no less than 300 feet on either side of a waterway.

• Endangered Species Act Threatened, Endangered, Proposed, and Candidate Species and Regional Forester Sensitive Species Avoidance Areas:

○ Where aerial application of fire retardant may affect one or more federally listed threatened, Endangered, Proposed or Candidate plant or animal species or critical habitat, specify avoidance areas to minimize impacts.

○ Where aerial application of fire retardant may impact certain Regional Forester Sensitive Species or their habitat, specify avoidance areas to minimize impacts.

○ Mapping of waterways that are dry at the time of retardant application is not required, but may be included in avoidance areas where there is a potential for downstream indirect effects to occur.

○ Avoidance Areas may be adjusted for local conditions. Adjustments related to Endangered Species Act threatened, Endangered, Proposed, and Candidate species will be coordinated with the local offices of the United States Department of Interior Fish and Wildlife Service and National Oceanic and Atmospheric Administration National Marine Fisheries Service, hereinafter referred to as the Services.

All forests and grasslands would review and update maps annually, following current national mapping protocols.

Annual Coordination

The Forest Service would coordinate annually with:

• Local services offices;

• Aviation managers and pilots; and

• Cooperators/other agencies.

Coordination would ensure requirements of the provisions of the proposal are met, maintain relationships, and allow resolutions of problems at the lowest level. Guidance on coordination meetings would be provided in an implementation guide.

Reporting and Monitoring Requirements

The Forest Service would maintain a database for reporting intrusions of aerially applied fire retardant into avoidance areas. Intrusion reporting requirements would be described in an implementation guide, including requirements of upward reporting to the Services for an intrusion report into an avoidance area for a Threatened, Endangered, Proposed, or Candidate species or critical habitat. Annually, the Forest Service would provide summary reports of retardant use and intrusions, as well as a listing of intrusions and a summary of observations and actions for each intrusion.

If a retardant drop occurs on a cultural resource, a traditional cultural property, or a sacred site, then the site condition would be assessed by a qualified archaeologist and reported to the State Historic Preservation Officer and, if appropriate, tribal representatives including the Tribal Historic Preservation Officer. If the affected resource is a sacred site, or a traditional cultural property, then tribal notification and consultation would be required as part of the determination of effects. If the effect is found to be adverse, then the agency would consult with the tribe to determine an appropriate course of action to mitigate or resolve the adverse effect.

Procedures when there are Additions to the Qualified Products List

Private companies submit retardants to the Forest Service for qualification. New products or new formulations of existing products must meet the Forest Service specification for long-term retardant (United States Department of Agriculture, Forest Service, Specification 5100-304d Long-term Retardant, Wildland Firefighting, posted January 7, 2020 at: https://www.fs.fed.us/rm/fire/wfcs/ret.htm) before they are included on the Qualified Products List. Any retardant that meets the specifications and is added to the Qualified Products List is included in this proposal. In addition, Endangered Species Act requirements will be met as follows:

• Products or new formulations that have the same or similar constituents as evaluated in the biological assessment and biological opinions, and do not exceed the upper limits of those components do not require additional consultation. The Services will be notified of additions to the Qualified Products list.

• Products or new formulations that do not meet the above criteria will result in re-initiation of consultation with the Services. The product is not eligible for the Qualified Products List until all required tests and consultation are completed.

Responsible Official

The responsible official will be Chris French, Deputy Chief, Forest System.

Nature of Decision To Be Made

The decision to be made is whether to continue aerial application of fire retardant, and if so, whether to do so under the proposed action or any potential alternatives.

Authority: 36 CFR 220.5.

Allen Rowley,
Associate Deputy Chief, National Forest System.

[FR Doc. 2020-17651 Filed 8-19-20; 8:45 am]

BILLING CODE 3411-15-P